FEDERAL COMMUNICATIONS COMMISSION

[CC Docket No. 96-45; DA 01-1458]

Common Carrier Bureau Seeks Comment on Translation of Cost Model to Delphi Computer Language and Announces Posting of Updated Cost Model

AGENCY: Federal Communications Commission.

ACTION: Notice; solicitation of comments.

SUMMARY: In a Public Notice in this proceeding released on June 20, 2001, the Common Carrier Bureau sought comment on translation of the forward-looking cost model to Delphi computer language and announced the posting of an updated Turbo-Pascal version of the cost model on the Commission's web site.

DATES: Comments are due on or before August 13, 2001. Reply comments are due on or before August 27, 2001.

ADDRESSES: See SUPPLEMENTARY INFORMATION section for where and how to file comments.

FOR FURTHER INFORMATION CONTACT: Katie King or Thomas Buckley, Attorneys, Common Carrier Bureau, Accounting Policy Division, (202) 418-7400 TTY: (202) 418-0484.

SUPPLEMENTARY INFORMATION: In the Fifth Report and Order, 63 FR 63993, October 28, 1998, the Commission adopted a forward-looking cost model to be used in determining federal high-cost universal service support for non-rural carriers. To date, the model has been in Turbo-Pascal computer language. Commission staff have translated the model from Turbo-Pascal language into Delphi computer language. In this document, the Common Carrier Bureau announces the posting of the current forward-looking cost model in Delphi computer language and seeks comment on whether it should use the Delphi version for purposes of calculating support amounts for 2002.

The Delphi version can be found on the Commission's Web site (www.fcc.gov/ccb/apd/hcpm). The Delphi version of the forward-looking cost model is a beta version that will continue to be refined and updated as the Commission staff and interested parties work with it. In an effort to use a computer language that works best for the Commission and all interested parties, this document seeks comment on advantages of the Delphi version over the Turbo-Pascal version, and recommendations concerning improvements to the Delphi version.

In this document, the Common Carrier Bureau also announces the posting of a separate, updated Turbo-Pascal version of the cost model on the Commission's Web site (www.fcc.gov/ccb/apd/hcpm) that contains minor programming changes to the model and source codes that were necessary for the purpose of using the updated line count data. On December 8, 2000, the Commission decided to use the year-end 1999 line counts filed July 31, 2000, as input values for estimating average forward-looking costs and determining support for the year 2001. Because the year-end 1999 line count data in large part remains subject to a protective order, the posted version of the model contains the 1998 line count data that has already been made available to the public. Parties that wish to work with the year-end 1999 line count data should contact the Universal Service Administrative Company (USAC) and must adhere to the procedures set forth in the Commission's protective order.

Pursuant to §§ 1.415 and 1.419 of the Commission's rules, interested parties may file comments as follows: comments are due on or before August 13, 2001, and reply comments are due on or before August 27, 2001. Comments may be filed using the Commission's Electronic Comment Filing System (ECFS) or by filing paper copies. See Electronic Filing of Documents in Rulemaking Proceedings, 63 FR 24121, May 1, 1998. Comments filed through the ECFS can be sent as an electronic file via the Internet to <http://www.fcc.gov/e-file/ecfs.html>. Generally, only one copy of an electronic submission must be filed. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. All filings must be sent to the Commission's Secretary, Magalie Roman Salas, Office of the Secretary, Federal Communications Commission, 445 12th Street, SW., Washington, DC 20554.

Parties also must send three paper copies of their filing to Sheryl Todd, Accounting Policy Division, Common Carrier Bureau, Federal Communications Commission, 445 Twelfth Street SW., Room 5-A422, Washington, D.C. 20554. In addition, commenters must send diskette copies to the Commission's copy contractor, International Transcription Service, Inc., 1231 20th Street, NW., Washington, DC 20037.

Pursuant to § 1.1206 of the Commission's Rules, this proceeding will continue to be conducted as a permit-but-disclose proceeding in which ex parte communications are permitted subject to disclosure.

Katherine L. Schroder,
Division Chief, Accounting Policy Division.

[FR Doc. 01-16237 Filed 6-27-01; 8:45 am]

BILLING CODE 6712-01-P